ENVIRONMENTAL PROTECTION AGENCY

[FRL-7404-6]

Clean Air Scientific Advisory Committee, National Ambient Air Monitoring Strategy (NAAMS) Subcommittee; Request for Nominations

ACTION: Notice; request for nominations to the National Ambient Air Monitoring Strategy Subcommittee of the Clean Air Scientific Advisory Committee of the U.S. Environmental Protection Agency.

SUMMARY: The Clean Air Scientific Advisory Committee (CASAC) of the U.S. Environmental Protection Agency (EPA or Agency) is announcing the formation of the National Ambient Air Monitoring Strategy (NAAMS or Strategy) Subcommittee (hereinafter, the “Subcommittee”) and is hereby soliciting nominations for this Subcommittee. The CASAC is administratively located under the EPA Science Advisory Board (SAB). The SAB was established to provide independent scientific and technical advice, consultation, and recommendations to the EPA Administrator on the technical basis for Agency positions and regulations. The NAAMS Subcommittee will report to the Administrator of EPA through the Clean Air Scientific Advisory Committee, a Federal advisory committee chartered under the Federal Advisory Committee Act (FACA), as amended (5 U.S.C. App.). The Subcommittee will comply with the provisions of FACA and all appropriate SAB procedural policies, including the SAB process for panel formation described in the Overview of the Panel Formation Process at the Environmental Protection Agency Science Advisory Board, which can found on the SAB's Web site at: http://www.epa.gov/sab/pdf/ec02010.pdf. Those selected to serve on the NAAMS Subcommittee will review the draft materials identified in this notice and respond to the charge questions provided below.

Background

States, local agencies and Tribes establish and operate the Nation's regulatory-based ambient air monitoring networks. These networks are funded in part with Federal grants and are managed nationally by the EPA. The network data are used to support:

(a) Designation of attainment and non-attainment areas with respect to the National Ambient Air Quality Standards (NAAQS);

(b) Dissemination of air quality information to the public;

(c) Development (and tracking progress of) emission reduction strategies;

(d) Characterization of long-term air quality trends; and

(e) Studies in health and atmospheric science disciplines.

The associated monitoring network, instrumentation and quality assurance requirements are included in 40 CFR parts 50, 53 and 58.

EPA has recently completed development of the final draft of the National Ambient Air Monitoring Strategy document under the direction of the National Monitoring Strategy Committee (NMSC), an intergovernmental partnership comprising representatives from EPA (i.e., the Office of Air Quality Planning and Standards (OAQPS), the Office of Research and Development (ORD) and Regional Offices), and State and local agencies and Tribes, i.e., the principal Federal grantee organizations that operate the majority of the monitoring networks. The NAAMS document contains technical information underlying planned revisions of the National Ambient Air Monitoring program. The Strategy proposes a restructuring of the national regulatory-based air monitoring networks—commonly referred to as National Air Monitoring Stations (NAMS), State or Local Air Monitoring Stations (SLAMS), and Photochemical Assessment Monitoring Stations (PAMS)—to accommodate emerging priorities of air programs, the public and the scientific community. Specifically, the NAAMS provides a series of proposed changes for network design and improvements, assessments of existing networks, incorporation of new measurement and information transfer technologies, and revisions both to the current quality assurance program and the monitoring regulations. The principal proposed changes include:

(a) A shift toward collocated multiple pollutant monitoring stations under a new national monitoring network design referred to as “NCore.”

(b) Incorporation of new continuous particle monitoring instruments, additional air toxics measurements and information transfer technologies to enhance the scope of near-real-time data delivered to the public.

(c) Adoption of new network design recommendations and the introduction of advanced monitoring technologies through performance-based standards.

(d) Reductions in existing monitoring stations that provide limited value for public protection or air quality planning needs, with attendant resource savings redirected to meeting new measurement needs.

EPA intends to propose revisions to the monitoring regulations that have emerged from this strategy during 2003. A public comment period on the proposed regulations will be announced at a later date by EPA's Office of Air and Radiation. The NAAMS document is available through EPA's Ambient Monitoring Technology Information Center (AMTIC) Web site at the following URL address: http://www.epa.gov/ttn/amtic/stratmem.html.

Request for and Proposed Charge to the NAAMS Subcommittee

EPA's Office of Air and Radiation (OAR) has requested that the CASAC form a subcommittee to review the NAAMS document. This new CASAC subcommittee will be charged with providing consultation to EPA on the technical bases and design aspects of the National Ambient Air Monitoring Strategy. In particular, the Subcommittee will be asked to provide a formal consultation on the following elements of the strategy:

(a) The NCore proposal, including conceptual approach to tiered monitoring levels, recommended measurements and numbers and locations of Level 2 sites. Consideration to phasing of measurements included in Level 2 sites should be addressed based on currently available and expected emerging monitoring technologies. The Subcommittee is also requested to advise on the scope and breadth of research-grade Level 1 sites.

(b) The use of spatial analysis approaches for network design and other air program planning needs. The monitoring strategy has utilized various spatial design approaches on National and Regional scales to identify areas of redundant monitoring as well as gaps requiring additional monitoring.

(c) The use of performance-based approaches for standardizing monitoring method requirements for particulate matter measurements. Performance-based approaches rely on applying data quality objectives to determine the allowable statistical uncertainties for instrument performance. This third subject area has evolved from discussions with the existing CASAC Subcommittee on Particulate Monitoring, and plays an important role in facilitating accommodation of new technologies into air monitoring networks.

Nominator's Assessment of Expertise

For all nominations submitted to the EPA SAB, please indicate the specific areas of expertise the candidate could contribute in this upcoming review topic. The nominee should be a recognized, national-level expert in one or more of the following disciplines.

(a) Atmospheric sciences and air quality simulation modeling. Areas of expertise include the development and application of regional and larger-scale air quality dispersion models to predict atmospheric concentrations of ozone, particulate matter and other pollutants, with emphasis placed on the application of such systems to developing emission control strategies in support of national-level programs or State Implementation Plans (SIPs). Related areas of expertise include individuals with expertise in chemical mechanism development, deterministic source-receptor modeling, observational-based models and related data analysis expertise and conceptual model development.

(b) Health effects and exposure. Areas of expertise include epidemiology, exposure assessment, risk assessment, and similar disciplines that relate adverse health impacts and ambient air pollution parameters to develop causative relationships, particularly with an emphasis on long-term time-series studies covering a range of population types and locations. This includes expertise in air pollution exposure studies that consider the relationship of ambient air to direct exposures through a range of environments (both outdoor and indoor).

(c) Air quality measurement science. Areas of expertise include particulate matter and gaseous species measurements, with an understanding of routine applications conducted by most State and local agencies, and both an interest in and an understanding of integrating advanced methodology in routine networks and transferring new technological advances to application level efforts in government agencies.

(d) State or local agency experience. Areas of expertise include experience working in a State or local agency organization familiar with the practical logistics of conducting air monitoring operations.

Process and Deadline for Submitting Nominations

Any interested person or organization may nominate qualified individuals for membership on the NAAMS Subcommittee. Nominations should be submitted in electronic format and must include the information listed below. To be considered, all nominations must include: (a) A current biography, curriculum vitae (C.V.) or resume, which provides the nominee's background, experience and qualifications for this subcommittee; and (b) a brief biographical sketch (“biosketch”). The biosketch should be no longer than one page and contain the following information for the nominee: current professional affiliations and positions held; research interests; leadership positions in national associations or professional publications or other significant distinctions; advanced degrees, including when and from which institutions these were granted; and sources of recent grant and/or other contract support.

Please provide nominations in the following manner:

(a) Send the nomination by email to: butterfield.fred@epa.gov.

(b) Use one email per person being nominated.

(c) Please use “NAAMS” in the subject field, followed by the last name of the candidate you are nominating. (For example, NAAMS: Smith).

(d) Attach supporting information (i.e., resume, biosketch, etc.) in either MS Word or WordPerfect files formats ending in “.doc” or “.wpd,” respectively.

(e) In a separate file, please provide the following information in the order shown:

For the Person Making the Nomination

First Name:

Last Name:

Person Title (e.g., Dr., Mr., Ms., etc.)

Organization Title:

E-mail Address:

Mailing Address:

Work Phone:

Work Fax:

Name of Nominee (if Nomination Is Not a Self-Nomination)

First Name:

Last Name:

Person Title (e.g., Dr., Mr., Ms., etc.)

Professional Title:

Department:

School or Unit:

University or Organization:

Mailing Address:

Work Phone:

Fax Work Phone:

E-mail Address:

Web site for C.V. (if one exists):

Expertise (Using the specific expertise categories in section 5 of this Federal Register notice, identify the Nominee's specific qualifying expertise):

Nominations should be submitted in electronic format to Mr. Fred Butterfield, Designated Federal Officer, Clean Air Scientific Advisory Committee, EPA SAB, at the following e-mail address: butterfield.fred@epa.gov. Anyone who is unable to submit nominations in electronic format may send hard copies of the nomination paperwork to Mr. Butterfield at the following mailing address: EPA Science Advisory Board, U.S. Environmental Protection Agency (1400A), 1200 Pennsylvania Avenue, NW., Washington, DC 20460; or via fax at: (202) 501-0582. Nominations should be submitted in time to arrive no later than November 26, 2002. Any questions concerning either this process or any other aspects notice should be directed to Mr. Butterfield either at the above e-mail address or via telephone at: (202) 564-4561.

The EPA Science Advisory Board will generally not formally acknowledge or respond to Subcommittee nominations. From the nominees identified by respondents to this Federal Register notice (termed the “Widecast”), SAB Staff will develop a smaller subset (known as the “Short List”) for more detailed consideration. Criteria used by the SAB Staff in developing this Short List are given at the end of the following paragraph. The Short List will be posted on the SAB Web site at: http://www.epa.gov/sab, and will include, for each candidate, the nominee's name and their biosketch. Public comments will be accepted for 21 calendar days on the Short List. During this comment period, the public will be requested to provide information, analysis or other documentation on nominees that the SAB Staff should consider in evaluating candidates for the NAAMS Subcommittee.

For the EPA SAB, a balanced review panel (i.e., committee or subcommittee) is characterized by inclusion of candidates who possess the necessary domains of knowledge, the relevant scientific perspectives (which, among other factors, can be influenced by work history and affiliation), and the collective breadth of experience to adequately address the charge. Public responses to the Short List candidates will be considered in the selection of the Subcommittee, along with information provided by candidates and information gathered by EPA SAB Staff independently on the background of each candidate (e.g., financial disclosure information and computer searches to evaluate a nominee's prior involvement with the topic under review). Specific criteria to be used in evaluating an individual subcommittee member include: (a) Scientific and/or technical expertise, knowledge, and experience (primary factors); (b) availability and willingness to serve; (c) absence of financial conflicts of interest; (d) scientific credibility and impartiality; and (e) skills working in committees, subcommittees and advisory panels.

Short List candidates will also be required to fill-out the “Confidential Financial Disclosure Form for Special Government Employees Serving on Federal Advisory Committees at the U.S. Environmental Protection Agency” (EPA Form 3110-48). This confidential form, which is used by EPA SAB Members and Consultants, allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf. Subcommittee members will likely be asked to attend at least one public face-to-face meeting and several public conference call meetings over the anticipated three-month course of the Subcommittee's activity. Once the NAAMS Subcommittee completes its deliberations, its report will be forwarded to the CASAC, which will review the Subcommittee's report in a public teleconference meeting and reach a judgment concerning its transmittal to the Administrator.

General Information

Any persons having general review comments on the National Ambient Air Monitoring Strategy document should submit them no later than December 1, 2002, to Dr. Brenda Millar, Monitoring and Quality Assurance Group, at mailing address: U.S. EPA (C339-02), 4930 Old Page Road, Research Triangle Park, NC 27711; or e-mail: bmillar@epa.gov. Additionally, any questions concerning the NAAMS should be directed to Dr. Richard Scheffe, U.S. EPA OAQPS Monitoring and Quality Assurance Group Leader, at phone: (919) 541-4650; or e-mail: Scheffe.Rich@epamail.epa.gov.

The approved policy under which the EPA SAB selects review panels is described in a recent SAB document, EPA Science Advisory Board (SAB) Panel Formation Process: Immediate Steps to Improve Policies and Procedures—An SAB Commentary (EPA-SAB-EC-COM-002-003), which can be found on the SAB's Web site at: http://www.epa.gov/sab/pdf/ecm02003.pdf.

Additional information concerning the EPA Science Advisory Board, including its structure, function, and composition, may be found on the EPA SAB Web site at: http://www.epa.gov/sab; and in The EPA Science Advisory Board FY2001 Annual Staff Report, which is available from the EPA SAB Publications Staff at phone: (202) 564-4533; via fax at: (202) 501-0256; or on the SAB Web site at: http://www.epa.gov/sab/annreport01.pdf.

Dated: October 30, 2002.
Vanessa T. Vu,
Director, EPA Science Advisory Board Staff Office.

[FR Doc. 02-28082 Filed 11-4-02; 8:45 am]

BILLING CODE 6560-50-P